DEPARTMENT OF TRANSPORTATION

Federal Railroad Administration

[Docket Number FRA-2014-0010]

Petition for Waiver of Compliance

In accordance with Part 211 of Title 49 Code of Federal Regulations (CFR), this document provides the public notice that by a document dated January 9, 2014, Wabtec Railway Electronics (Wabtec) has petitioned the Federal Railroad Administration (FRA) for a waiver of compliance from certain provisions of the Federal railroad safety regulations contained at Title 49 Code of Federal Regulations (CFR) Part 229, Railroad Locomotive Safety Standards, and 49 CFR Part 232, Brake System Safety Standards for Freight and Other Non-Passenger Trains and Equipment; End of Train Devices. FRA assigned the petition Docket Number FRA-2014-0010.

Specifically, Wabtec seeks relief from 49 CFR 229.29, Air brake system calibration, maintenance, and testing, and 49 CFR 232.205, Class I brake test-initial terminal inspection. These sections list the required periods for the calibration of the air flow method (AFM) indicator and the process to be used to calibrate the AFM. The present requirement is for AFM calibration to occur at intervals not to exceed 92 days. Wabtec, in conjunction with Union Pacific Railroad (UP), requests a 2-year test waiver period to monitor and analyze AFM readings taken after the requested 368-day test interval for all UP locomotives equipped with Wabtec EPIC 3102D2, EPIC II, and FastBrake electronic air brake systems. On April 9, 2012, FRA modified 49 CFR 229.27, Annual tests, to allow that “[a]ll testing under this section shall be performed at intervals that do not exceed 368 calendar days” and “[e]ach device used by the engineer to aid in the control or braking of the train or locomotive that provides an indication or air pressure electronically shall be tested by comparison with a test gauge or self-test designed for this purpose.” Wabtec seeks to gather and compare this data with the 92-day readings it has previously collected to confirm that proper AFM calibration can be maintained over a 368-day time period. Positive conclusions realized from the test may then be used to extend the waiver beyond the initial 2-year period, or as the basis for future regulatory review of the 92-day requirement to match the requirements of 49 CFR 229.27.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 30, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on May 12, 2014.
Robert C. Lauby,
Associate Administrator for Railroad Safety, Chief Safety Officer.

[FR Doc. 2014-11349 Filed 5-15-14; 8:45 am]

BILLING CODE 4910-06-P